DEPARTMENT OF ENERGY

Federal Energy Regulatory Commission

[Docket No. CP08-111-000]

Texas Eastern Transmission, LP; Notice of Request Under Blanket Authorization

April 10, 2008.

Take notice that on April 4, 2008, Texas Eastern Transmission, LP (Texas Eastern), 5400 Westheimer Court, Houston, Texas 77056-5310, filed in Docket No. CP08-111-000, a prior notice request pursuant to sections 157.205, 157.208, and 157.212 of the Federal Energy Regulatory Commission's regulations under the Natural Gas Act for authorization to construct and operate the Golden Pass Pipeline Interconnect Project, located in Calcasieu Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Texas Eastern proposes to construct and operate a new receipt point to receive natural gas from Golden Pass Pipeline, LLC (Golden Pass), consisting of a 16-inch hot tap valve and associated piping on Texas Eastern's Line No. 14, electronic gas measurement equipment, and overpressure protection instrumentation. Texas Eastern also proposes to utilize an existing 14-inch hot tap on Line No. 14. Texas Eastern estimates the cost of construction to be $153,078.50. Texas Eastern states that Golden Pass will reimburse Texas Eastern for all costs associated with constructing the facilities. Texas Eastern asserts that the new receipt point will provide Texas Eastern with the ability to receive up to 600 million cubic feet per day of natural gas from Golden Pass into Texas Eastern's pipeline system. Texas Eastern avers that the addition of this receipt point will have no significant impact on Texas Eastern's peak day or annual deliveries.

Any questions regarding the application should be directed to Stephen T. Veatch, Regulatory Affairs, Trunkline Gas Company, LLC, 5444 Westheimer Road, Houston, Texas 77056, call (713) 989-2024, or fax (713) 989-1158, or by e-mail stephen.veatch@SUG.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-8144 Filed 4-15-08; 8:45 am]

BILLING CODE 6717-01-P